DEPARTMENT OF TRANSPORTATION

Federal Aviation Administration

Twenty Eighth RTCA SC-222 AMS(R)S Systems Plenary

AGENCY: Federal Aviation Administration (FAA), U.S. Department of Transportation (DOT).

ACTION: Twenty Eighth RTCA SC-222 AMS(R)S Systems Plenary.

SUMMARY: The FAA is issuing this notice to advise the public of a meeting of Twenty Eighth RTCA SC-222 AMS(R)S Systems Plenary.

DATES: The meeting will be held February 06-07, 2018 8:00 a.m.-12:00 p.m.

ADDRESSES: The meeting will be held Virtually: https://rtca.webex.com/rtca/j.php?MTID=m4b61202f64787c532572d2c1c02bc6c8, Meeting number (access code): 631 228 278 Meeting password: hWmCMhM2.

FOR FURTHER INFORMATION CONTACT: Karan Hofmann at khofmann@rtca.org or 202-330-0680, or The RTCA Secretariat, 1150 18th Street NW, Suite 910, Washington, DC 20036, or by telephone at (202) 833-9339, fax at (202) 833-9434, or website at http://www.rtca.org.

SUPPLEMENTARY INFORMATION: Pursuant to section 10(a)(2) of the Federal Advisory Committee Act (Pub. L. 92-463, 5 U.S.C., App.), notice is hereby given for a meeting of the Twenty Eighth RTCA SC-222 AMS(R)S Systems Plenary. The agenda will include the following:

Tuesday, February 6, 2018

Welcome, Introductions, Administrative Remarks by Special Committee Leadership

1. Agenda Overview

2. Review/Approve Prior Plenary Meeting Summary—(Action Item Status)

3. Industry Presentations

4. SC-228 IRSA Discussion

5. Updates on DO-343B/ED-242A and DO-262D/ED-243A

6. Detailed Work Plan for SC-222 and WG-82

7. Establish Agenda, Date and Place for Next Meeting

8. Review of Action Items

9. Adjourn—Plenary Meeting

Wednesday, February 7, 2018

Continuation of Plenary Agenda Items

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 5, 2018.
John Raper,
Manager, Partnership Contracts Branch, ANG-A17 (Acting), NextGen, Procurement Services Division, Federal Aviation Administration.

[FR Doc. 2018-00301 Filed 1-10-18; 8:45 am]

BILLING CODE 4910-13-P